SECURITIES AND EXCHANGE COMMISSION

Sunshine Act Meeting

Notice is hereby given, pursuant to the provisions of the Government in the Sunshine Act, Public Law 94-409, that the Securities and Exchange Commission will hold a Roundtable to examine oversight of credit rating agencies on Wednesday, April 15, 2009 beginning at 10 a.m.

The Roundtable will take place in the Auditorium of the Commission's headquarters at 100 F Street, NE., Washington, DC. The Roundtable will be open to the public with seating on a first-come, first-served basis. Doors will open at 9:30 a.m. Visitors will be subject to security checks.

The Roundtable will consist of an open discussion regarding the oversight of credit rating agencies and related issues, such as conflicts of interest, competition, and transparency. Roundtable participants will include leaders from credit rating agencies, investor organizations, financial services associations, and academia.

For Further Information, Please Contact: The Office of the Secretary at (202) 551-5400.

Dated: March 30, 2009.
Elizabeth M. Murphy,
Secretary.

[FR Doc. E9-7477 Filed 4-2-09; 8:45 am]

BILLING CODE